DEPARTMENT OF ENERGY

Federal Energy Regulatory Commission

[Docket No. RP04-232-000]

Transcontinental Gas Pipe Line Corporation; Notice of Proposed Changes in FERC Gas Tariff

March 30, 2004.

Take notice that on March 26, 2004, Transcontinental Gas Pipe Line Corporation (Transco) tendered for filing as part of its FERC Gas Tariff, Third Revised Volume No. 1, the following tariff sheets, to be effective May 1, 2004:

Fourteenth Revised Sheet No. 250

First Revised Sheet No. 331

Sheet No. 332

Transco states that the purpose of this filing is to set forth in its tariff, in a new Section 22 of the General Terms and Conditions, provisions under which shippers may, at their option and subject to certain conditions, consolidate multiple service agreements under a rate schedule into a single service agreement under that rate schedule.

Transco states that it is proposing these provisions to provide its shippers the opportunity to simplify the administration of multiple service agreements under a rate schedule.

Transco states that copies of the filing are being mailed to parties included on the official service list, interested State Commissions, and other interested parties.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-759 Filed 4-5-04; 8:45 am]

BILLING CODE 6717-01-P